DEPARTMENT OF ENERGY

Federal Energy Regulatory Commission

[Project No. P-3615-002]

Drew River Mill, Inc.; Cancellation of June 20 Site Review

June 10, 2002.

On May 24, 2002, the staff of the Office of Energy Projects issued a Notice of Site Review for the Branch River Mill Project for June 20, 2002. At the request of the exemptee, Drew River Mill, Inc., the scheduled site visit has been postponed until further notice.

For further information, please contact the Commission's Office of External Affairs at (202) 208-1088.

Magalie R. Salas,
Secretary.

[FR Doc. 02-15023 Filed 6-13-02; 8:45 am]

BILLING CODE 6717-01-P